DEPARTMENT OF LABOR

Occupational Safety and Health Administration

National Advisory Committee on Ergonomics; Notice of Meeting

AGENCY: Occupational Safety and Health Administration (OSHA), Labor.

ACTION: Notice.

SUMMARY: The National Advisory Committee on Ergonomics (NACE) is part of the Secretary's comprehensive approach for reducing ergonomics-related injuries and illnesses in the workplace. The committee was convened for the first time on January 22, 2003. This notice schedules the fourth NACE meeting. During the first day of the meeting, the committee will hear presentations at a research symposium entitled “Musculoskeletal and Neurovascular Disorders—The State of Research Regarding Workplace Etiology and Prevention.” The public is encouraged to attend the symposium and the meeting.

DATES: The committee will meet from 8 a.m. until 5 p.m. on Tuesday and Wednesday, January 27 and 28, 2004.

ADDRESSES: The committee will meet at the Hotel Washington, 15th and Pennsylvania Avenue, NW., Washington, DC 20004; Telephone: (202) 638-5900. Submit comments, views, or statements in response to this notice to MaryAnn Garrahan, Director, Office of Technical Programs and Coordination Activities, OSHA, U.S. Department of Labor, Room N-3655, 200 Constitution Avenue, NW., Washington, DC 20210. Phone: (202) 693-2144; Fax: (202) 693-1644.

FOR FURTHER INFORMATION CONTACT: OSHA, Office of Communications, Room N-3647, U.S. Department of Labor, 200 Constitution Avenue, NW., Washington, DC 20210; Telephone: (202) 693-1999.

SUPPLEMENTARY INFORMATION: NACE was chartered for a two-year term on November 27, 2002, to provide advice and recommendations on ergonomic guidelines, research, and outreach and assistance. The committee has met on January 22, 2003, and May 6-7, 2003, in Washington, DC, and on September 23-24, 2003 in Arlington, VA. This notice announces the fourth meeting of the committee, which will take place in Washington, DC, on January 27-28, 2004.

A research symposium will take place in conjunction with the first day of the January 27-28, 2004 NACE meeting. On October 6, 2003 (68 FR 57713), OSHA published a notice soliciting abstracts for this symposium. Abstracts were originally due on November 5. In a subsequent notice published on November 7, 2003 (68 FR 63133), OSHA extended the period in which to submit abstracts until December 1, 2003. NACE will use proceedings from the symposium to make recommendations to advance OSHA's agenda of reducing the incidence of Musculoskeletal Disorders (MSDs) in the workplace.

I. Meeting Agenda

On January 27, 2004, a one-day symposium entitled Musculoskeletal and Neurovascular Disorders—The State of Research Regarding Workplace Etiology and Prevention will be held in conjunction with the first day of the NACE meeting.

The committee will hear presentations from three panels of researchers on etiology and intervention. Following these panel presentations, the committee will have the opportunity to ask questions on the presentations and discuss relevant issues raised by the presentations. The panel presentations and discussions will be facilitated by John Howard, M.D., Director, National Institute for Occupational Safety and Health. On Wednesday, January 28, the committee will hear presentations on the diagnosis of carpal tunnel syndrome and also presentations on the advantages of a good ergonomics program. Following these presentations, the committee's working groups on Research, Guidelines, and Outreach and Assistance will meet. The working groups will report back to the full committee that afternoon and lead discussions about their respective topics.

II. Public Participation

Written data, views, or comments for consideration by NACE on the various agenda items listed above may be submitted, preferably with copies for the NACE members, to MaryAnn Garrahan at the address listed above. Submissions received by January 20, 2004, will be provided to the committee members for consideration. Requests to make oral presentations to the committee may be granted if time permits. Anyone wishing to make an oral presentation to the committee should notify MaryAnn Garrahan at the address noted above. The request should state the amount of time desired, the capacity in which the person will appear, and a brief outline of the content of the presentation. Persons who request an oral presentation may be allowed to speak, as time permits, at the discretion of the Chair of the Advisory committee.

Persons with disabilities requiring special accommodations should contact Veneta Chatmon (Phone: (202) 693-1912; Fax (202) 693-1635 by January 9, 2004.

A transcript of the meeting will be available for inspection and copying in the OSHA Technical Data Center, Room N-2625 (see ADDRESSES section above) Phone: (202) 693-2350. Transcripts of NACE meetings will also be available online on OSHA's Web site at http://www.osha.gov/SLTC/ergonomics/nat_advis_comm.html.

Authority: This notice was prepared under the direction of John L. Henshaw, Assistant Secretary for Occupational Safety and Health. It is issued under the Federal Advisory Committee Act (FACA) (5 U.S.C. App. 2), GSA's FACA Regulations (41 CFR part 102-3), and DLMS 3 Chapter 1600.

Signed at Washington, DC this 29th day of December, 2003.
John L. Henshaw,
Assistant Secretary.

[FR Doc. 04-156 Filed 1-5-04; 8:45 am]

BILLING CODE 4510-26-P